DEPARTMENT OF COMMERCE

Foreign-Trade Zones Board

[Docket 50-2003]

Foreign-Trade Zone 249—Pensacola, FL; Application for Subzone Status, General Electric Wind Energy and Energy Rentals (Wind Turbines), Pensacola, FL

An application has been submitted to the Foreign-Trade Zones Board (the Board) by the Pensacola-Escambia County Promotion and Development Commission, grantee of FTZ 249, requesting special-purpose subzone status for the wind turbine manufacturing plant of General Electric Wind Energy and Energy Rentals (GEWE/GEER), located in Pensacola, Florida. The application was submitted pursuant to the provisions of the Foreign-Trade Zones Act, as amended (19 U.S.C. 81a-81u), and the regulations of the Board (15 CFR part 400). It was formally filed on September 25, 2003.

The GEWE/GEER plant (102 acres/375,000 sq. ft.) is located at 8301 Scenic Highway in Pensacola (Escambia County), Florida. The facility (250 employees) is used to produce 1.5 megawatt, wind-powered turbines (with potential for 3.6 megawatt units in the future) and wind turbine blades for export and the domestic market. The manufacturing process at the facility involves machining, assembly, testing, and warehousing. The plant has capacity to produce about 500 turbines and 850 wind turbine blades annually. Components that are, or may be, purchased from abroad (representing about 40-70% of finished product value) used in manufacturing include: glue, polycetal/polyester/epoxide/polyamide/polycarbonate resins (hardeners), plastic foil/film/tape, plate/sheet/film of styrene/polyvinyl polymers (foam cores), printed labels, glass fibers and fabric (root bands), glass fiber yarn (Category 201; must be admitted under privileged foreign status—19 CFR 146.41), electrical grounding rods, steel belts/bands, doors, fasteners, pumps, cylinders, hub castings, bed plates, compressors, pulleys, winches, hoists, electric motors, generators, transmissions, transmission shafts, gear boxes, bearings, flanges/couplers, gears, clutches, couplings, chains, sprockets, electrical connectors, motors, transformers, stators, rotors, ballasts, static converters, inductors, magnets, batteries (Ni-Cad, Ni-Iron, lead acid), lightning arresters, circuit breakers, relays, switches, lampholders/sockets, panel/distribution boards, speed controllers, control panels, pitch motor encoders, motor starters, terminals, connectors, diodes, transistors, bridge rectifiers, photosensitive semiconductors, conductors, revolution counters, and voltage meters (2003 duty rate range: free—8.5%).

FTZ procedures would exempt GEWE/GEER from Customs duty payments on the foreign component inputs used in export production. On its domestic shipment and exports to NAFTA markets, the company would be able to choose the duty rate that applies to finished wind turbines (2.5%) or wind turbine blades (3%) for the foreign-sourced inputs noted above. The company would be able to defer Customs duty payments on the foreign-origin finished turbines that would be admitted to the proposed subzone for U.S. distribution. Duties would be deferred or reduced on foreign production equipment admitted to the proposed subzone until which time it becomes operational. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is December 8, 2003. Rebuttal comments in response to material submitted during the foregoing period may be submitted during the subsequent 15-day period (to December 22, 2003).

A copy of the application will be available for public inspection at the Office of the Foreign-Trade Zones Board's Executive Secretary at address No.1 listed above and at the Office of the Port Director, U.S. Bureau of Customs and Border Protection, Suite 102, 1 South A Street, Pensacola, FL 32501.

Dated: September 25, 2003.
Pierre V. Duy,
Acting Executive Secretary.

[FR Doc. 03-25388 Filed 10-6-03; 8:45 am]

BILLING CODE 3510-DS-P